SUSQUEHANNA RIVER BASIN COMMISSION

Actions Taken at March 15, 2019, Meeting

AGENCY: Susquehanna River Basin Commission.

ACTION: Notice.

SUMMARY: As part of its regular business meeting held on March 15, 2019, in Annapolis, Maryland, the Commission approved the applications of certain water resources projects, and took additional actions, as set forth in the Supplementary Information below.

DATES: March 15, 2019.

ADDRESSES: Susquehanna River Basin Commission, 4423 N. Front Street, Harrisburg, PA 17110-1788.

FOR FURTHER INFORMATION CONTACT: Jason E. Oyler, General Counsel and Secretary, telephone: (717) 238-0423, ext. 1312; fax: (717) 238-2436; email: joyler@srbc.net. Regular mail inquiries may be sent to the above address. See also Commission website at www.srbc.net.

SUPPLEMENTARY INFORMATION: In addition to the actions taken on projects identified in the summary above and the listings below, the following items were also presented or acted upon at the business meeting: (1) Adopting a final FY2020 budget; (2) approval of several contracts, grant amendments and agreements; (3) adopting a resolution authorizing amendments to the retiree health trust; (4) authorized the executive director to prepare a final letter in response to the 2017 Pennsylvania performance audit; and (5) approved extension of an emergency certificate issued to Knouse Foods Cooperative, Inc.

Adoption of Resolution 2019-04

The Commission adopted Resolution 2019-04 authorizing the balancing of Approvals by Rule under 18 CFR 806.22(f) (ABR(f)) renewal cycle workload. The number of ABR(f) renewals required to be submitted varies greatly each year, with a maximum year of 620 renewals and a minimum year of 190 renewals, which places a difficult administrative burden on the Commission to review the renewals in a timely manner in heavy years and/or would require an increase in costs associated with temporary staffing of the ABR(f) program.

To resolve the imbalance, the Commission, pursuant to 18 CFR 806.8, waived the strict application of 18 CFR 806.22(f)(10) to up to 601 ABR(f) approvals and authorized the Executive Director to add one or two years to the term of those approvals to best balance the projected workload over the five year renewal cycle. The list of extended approvals are published on the Commission's website at https://www.srbc.net/our-work/public-reference-manual/docs/abrf-term-adjustment-list.pdf.

Project Applications Approved

The Commission approved the following project applications:

1. Project Sponsor and Facility: ADLIB Resources, Inc. (Meshoppen Creek), Springville Township, Susquehanna County, Pa. Application for renewal of surface water withdrawal of up to 0.499 mgd (peak day) (Docket No. 20150301).

2. Project Sponsor: Aqua Pennsylvania, Inc. Project Facility: Beech Mountain System, Butler Township, Luzerne County, Pa. Application for groundwater withdrawal of up to 0.144 mgd (30-day average) from Beech Mountain Well 1.

3. Project Sponsor: Aqua Pennsylvania, Inc. Project Facility: Beech Mountain System, Butler Township, Luzerne County, Pa. Application for groundwater withdrawal of up to 0.144 mgd (30-day average) from Beech Mountain Well 2.

4. Project Sponsor: Aqua Pennsylvania, Inc. Project Facility: Beech Mountain System, Butler Township, Luzerne County, Pa. Application for groundwater withdrawal of up to 0.124 mgd (30-day average) from Beech Mountain Well 3.

5. Project Sponsor and Facility: Chesapeake Appalachia, L.L.C. (Susquehanna River), Braintrim Township, Wyoming County, Pa. Application for renewal of surface water withdrawal of up to 3.000 mgd (peak day) (Docket No. 20150303).

6. Project Sponsor: Corning Incorporated. Project Facility: Corning Innovation Support Center, Town of Big Flats, Chemung County, N.Y. Application for groundwater withdrawal of up to 0.540 mgd (30-day average) from Carpenter Road Well 1.

7. Project Sponsor: Corning Incorporated. Project Facility: Corning Innovation Support Center, Town of Big Flats, Chemung County, N.Y. Application for groundwater withdrawal of up to 0.540 mgd (30-day average) from Carpenter Road Well 2.

8. Project Sponsor and Facility: Farmers Pride, Inc., Bethel Township, Lebanon County, Pa. Application for renewal of groundwater withdrawal of up to 0.060 mgd (30-day average) from Well 1 (Docket No. 19881101).

9. Project Sponsor and Facility: Linde Corporation (Lackawanna River), Fell Township, Lackawanna County, Pa. Application for renewal of surface water withdrawal of up to 0.905 mgd (peak day) (Docket No. 20150307).

10. Project Sponsor and Facility: Shadow Ranch Resort, Inc. (Tunkhannock Creek), Tunkhannock Township, Wyoming County, Pa. Application for renewal of surface water withdrawal of up to 0.999 mgd (peak day) (Docket No. 20150309).

11. Project Sponsor and Facility: State College Borough Water Authority, Ferguson Township, Centre County, Pa. Application for renewal of groundwater withdrawal of up to 0.490 mgd (30-day average) from Well 57 (Docket No. 19890504).

12. Project Sponsor: SUEZ Water Pennsylvania Inc. Project Facility: Center Square Operation, Upper Allen Township, Cumberland County, Pa. Application for groundwater withdrawal of up to 0.107 mgd (30-day average) from Well 1.

13. Project Sponsor: SUEZ Water Pennsylvania Inc. Project Facility: Center Square Operation, Upper Allen Township, Cumberland County, Pa. Application for renewal of groundwater withdrawal of up to 0.379 mgd (30-day average) from Well 2 (Docket No. 19861104).

14. Project Sponsor and Facility: Sugar Hollow Water Services LLC (Martins Creek), Hop Bottom Borough, Susquehanna County, Pa. Application for renewal of surface water withdrawal of up to 0.360 mgd (peak day) (Docket No. 20150304).

15. Project Sponsor and Facility: SWEPI LP (Cowanesque River), Westfield Township, Tioga County, Pa. Application for renewal of surface water withdrawal of up to 0.375 mgd (peak day) (Docket No. 20150311).

16. Project Sponsor and Facility: SWN Production Company, LLC (Martins Creek), Brooklyn Township, Susquehanna County, Pa. Application for renewal of surface water withdrawal of up to 0.997 mgd (peak day) (Docket No. 20150310).

17. Project Sponsor and Facility: Village of Windsor, Broome County, N.Y. Application for groundwater withdrawal of up to 0.380 mgd (30-day average) from Well 1.

18. Project Sponsor and Facility: Village of Windsor, Broome County, N.Y. Application for groundwater withdrawal of up to 0.380 mgd (30-day average) from Well 2.

Commission-Initiated Project Approval Modifications

1. Project Sponsor and Facility: East Donegal Township Municipal Authority, East Donegal Township, Lancaster County, Pa. Conforming the grandfathering amount with the forthcoming determination for a withdrawal of up to 0.351 mgd (30-day average) from Glatfelter Springs (Docket No. 20110305).

2. Project Sponsor and Facility: Hanover Country Club, Abbottstown Borough, Adams County, Pa. Conforming the grandfathering amount with the forthcoming determination for a groundwater withdrawal of up to 0.122 mgd (30-day average) from Well 1 and up to 0.108 mgd (30-day average) from Well 2 (Docket No. 20020828).

3. Project Sponsor and Facility: Mars Wrigley Confectionery US, LLC, Elizabethtown Borough, Lancaster County, Pa. Conforming the grandfathering amount with the forthcoming determination for groundwater withdrawal of up to 0.112 mgd (30-day average) from Well 6 (Docket No. 20010804).

Authority: Pub. L. 91-575, 84 Stat. 1509 et seq., 18 CFR parts 806, 807, and 808.

Dated: March 27, 2019.
Jason E. Oyler,
General Counsel and Secretary to the Commission.

[FR Doc. 2019-06289 Filed 4-1-19; 8:45 am]

BILLING CODE 7040-01-P